DEPARTMENT OF LABOR

Employment and Training Administration

[TA-W-74,901]

Hawker Beech Craft Defense Company, LLC, Also Known As Hawker Beechcraft Corporation, Also Known As Hawker Beechcraft International SVC, Also Known As Rapid Surplus Parts, Also Known As Hawker Beechcraft Svcs, Also Known As Travel Air Insurance, Also Known As Hawker Beechcraft Regional, Wichita, KS; Amended Certification Regarding Eligibility To Apply for Worker Adjustment Assistance

In accordance with Section 223 of the Trade Act of 1974, as amended (“Act”), 19 U.S.C. 2273, the Department of Labor issued a Certification of Eligibility to Apply for Worker Adjustment Assistance on February 14, 2011, applicable to workers of Hawker Beechcraft Corporation, also known as Hawker Beechcraft International SVC, Rapid Surplus Parts, Hawker Beechcraft Svcs, Travel Air Insurance, and Hawker Beechcraft Regional, Wichita, Kansas. The workers produce aviation aircraft.

At the request of the State Workforce Office, the Department reviewed the certification for workers of the subject firm. New information from the company shows that the correct name of the subject firm is Hawker Beechcraft Defense Company, LLC, also known as Hawker Beechcraft Corporation, also known as Hawker Beechcraft International SVC, also known as Rapid Surplus Parts, Hawker Beechcraft SVCS, also known as Travel Air Insurance, and also known as Hawker Beechcraft Regional.

Accordingly, the Department has amended this certification to correct the subject firm name. The intent of the Department's certification is to include all workers of the subject firm who were adversely affected by the shift in production to Mexico.

The amended notice applicable to TA-W-74,901 is hereby issued as follows:

All workers of Hawker Beechcraft Defense Company, LLC, also known as Hawker Beechcraft Corporation, also known as Hawker Beechcraft International SVC, also known as Rapid Surplus Parts, Hawker Beechcraft SVCS, also known as Travel Air Insurance, and also known as Hawker Beechcraft Regional, Wichita, Kansas who became totally or partially separated from employment on or after November 11, 2009, through February 14, 2013, and all workers in the group threatened with total or partial separation from employment on date of certification through two years from the date of certification, are eligible to apply for adjustment assistance under Chapter 2 of Title II of the Trade Act of 1974, as amended.

Signed in Washington, DC, this 11th day of May, 2012.
Del Min Amy Chen,
Certifying Officer, Office of Trade Adjustment Assistance.

[FR Doc. 2012-12886 Filed 5-25-12; 8:45 am]

BILLING CODE 4510-FN-P